DEPARTMENT OF ENERGY

Federal Energy Regulatory Commission

[Docket No. EL00-95-071, et al.]

San Diego Gas & Electric Company, et al.; Electric Rate and Corporate Filings

December 10, 2002.

The following filings have been made with the Commission. The filings are listed in ascending order within each docket classification.

1. San Diego Gas & Electric Company, Complainant, v. Sellers of Energy and Ancillary Services Into Markets Operated by the California Independent System Operator and the California Power Exchange, Respondents

[Docket No. EL00-95-071]

Investigation of practices of the California Independent System Operator and the California Power Exchange.

[Docket No. EL00-98-060]

Public meeting in San Diego, California.

[Docket No. EL00-107-013]

Reliant Energy Power Generation, Inc., Dynegy Power Marketing, Inc., and Southern Energy California, L.L.C., Complainants, v. California Independent System Operator Corporation, Respondent.

[Docket No. EL00-97-007]

California Electricity Oversight Board, Complainant, v. all sellers of energy and ancillary services into the energy and ancillary services markets operated by the California Independent System Operator and the California Power Exchange, Respondents.

[Docket No. EL00-104-012]

California Municipal Utilities Association, Complainant, v. all jurisdictional sellers of energy and ancillary services into markets operated by the California Independent System Operator and the California Power Exchange, Respondents.

[Docket No. EL01-1-013]

Californians for Renewable Energy, Inc. (CARE), Complainant, v. Independent Energy Producers, Inc., and all sellers of energy and ancillary services into markets operated by the California Independent System Operator and the California Power Exchange; all scheduling coordinators acting on behalf of the above sellers; California Independent System Operator Corporation; and California Power Exchange Corporation, Respondents.

[Docket No. EL01-2-007]

Investigation of wholesale rates of public utility sellers of energy and ancillary services in the Western System Coordinating Council.

[Docket No. EL01-68-026]

Take notice that on December 2, 2002, the California Independent System, Operator Corporation (ISO) tendered for filing a compliance filing made in compliance with the Commission's October 31, 2002, Order on Compliance Filing and Compliance Report. The compliance filing revises section 5.11 of the ISO's tariff, in accordance with the October 31 Order.

The ISO states that this filing has been served on all entities that are on the official service list for these dockets.

Comment Date: January 2, 2002.

2. New York Independent System Operator, Inc.

[Docket Nos. ER00-3591-015, ER00-1969-017, ER00-3038-008, ER02-2081-002and EL00-70-009]

Take notice that on December 2, 2002, the New York Independent System Operator, Inc. (NYISO) tendered for filing a compliance filing in accordance with the Commission's October 31, 2002, order in the above-captioned proceedings.

The NYISO has served a copy of this filing upon all parties designated on the official service lists compiled by the Secretary in these proceedings.

Comment Date: December 23, 2002.

3. Southern California Edison Company

[Docket No. ER03-247-000]

Take notice that on December 6, 2002, Southern California Edison Company (SCE) tendered for filing a three-party letter agreement between SCE, Pure Power Energy Company, LLC (Pure Power Energy), and Wintec Energy, Ltd. (Wintec).

The purpose of the letter agreement is for SCE, Pure Power Energy and Wintec to agree upon a short-term arrangement pursuant to which SCE will engineer, design, and install additional protection equipment necessary to interconnect the demonstration project at SCE's Buckwind Substation; and for SCE to provide short-term, temporary interconnection service via the existing interconnection facilities at Buckwind Substation. SCE respectfully requests that the letter agreement become effective on November 29, 2002.

Copies of this filing were served upon the Public Utilities Commission of the State of California, Pure Power Energy, and Wintec.

Comment Date: December 27, 2002.

4. Pacific Gas and Electric Company

[Docket No. ER03-248-000]

Take notice that on December 6, 2002, Pacific Gas and Electric Company (PG&E) tendered for filing a revised Appendix B to service agreement no. 42 for Network Integration Transmission Service (NITS) and an agreement for installation or allocation of special facilities, both between PG&E and the San Francisco Bay Area Rapid Transit District (BART).

The revised NITS Appendix B reflects changes due to the BART-San Francisco International Airport Extension Project. The SFA permits PG&E to recover the ongoing costs associated with owning, operating and maintaining certain special facilities required by BART for interconnection with PG&E's system. As detailed in the special facilities agreement, PG&E proposes to charge BART an equivalent one-time payment cost of ownership charge equal to the rates for transmission-level, customer-financed facilities in PG&E's currently effective electric rule 2, as filed with the California Public Utilities Commission (CPUC). PG&E's currently effective rate of 0.31% for transmission-level, customer-financed special facilities is contained in the CPUC's advice letter 1960-G/1587-E, effective August 5, 1996, a copy of which is included as attachment 3 of this filing.

PG&E has requested certain waivers. Copies of this filing have been served upon BART, the California Public Utilities Commission and the California Independent System Operator Corporation.

Comment Date: December 27, 2002.

5. Illinois Power Company

[Docket No. ER03-249-000]

Take notice that on December 6, 2002, Illinois Power Company (Illinois Power), filed an interconnection and operating agreement entered into with Franklin County Power of Illinois, LLC and subject to Illinois Power's open access transmission tariff.

Illinois Power requests an effective date of November 17, 2002, for the agreement and seeks a waiver of the Commission's notice requirement. Illinois Power has served a copy of the filing on Franklin County Power of Illinois, LLC.

Comment Date: December 27, 2002.

6. Northern Indiana Public Service Company

[Docket No. ER03-250-000]

Take notice that on December 6, 2002, Northern Indiana Public Service Company (Northern Indiana) filed a service agreement for network integration transmission service, a network operating agreement, and an electric distribution service agreement with the Indiana Municipal Power Agency (IMPA).

Northern Indiana has requested an effective date of February 1, 2003. Copies of this filing have been sent to IMPA, the Indiana Utility Regulatory Commission, and the Indiana Office of Utility Consumer Counselor.

Comment Date: December 27, 2002.

7. CinCap IX, LLC.

[Docket No. ER03-251-000]

Take notice that on December 6, 2002, Cincap IX, LLC tendered for filing a notice of cancellation, pursuant to 18 CFR 35.15, giving notice of cancellation of its market-based electric tariff filed with the Commission.

Comment Date: December 27, 2002.

8. Tampa Electric Company.

[Docket No. ER03-252-000]

Take notice that on December 6, 2002, Tampa Electric Company (Tampa Electric) tendered for filing notices of cancellation of a power sales agreement with Hardee Power Partners Limited (HPP) and two related transmission service agreements with HPP under Tampa Electric's open access transmission tariff. Tampa Electric proposes that the cancellations be made effective on January 1, 2003.

Copies of the filing have been served on HPP and the Florida Public Service Commission.

Comment Date: December 27, 2002.

9. PJM Interconnection, L.L.C.

[Docket No. ER03-254-000]

Take notice that on December 6, 2002, PJM Interconnection, L.L.C. (PJM), submitted for filing amendments to the amended and restated PJM operating agreement (operating agreement) to amend the “Membership Requirements” provisions (1) to delete the requirement that the additional member agreements executed by new members of PJM be filed with the FERC; and (2) to permit entities to become members of PJM effective as of the date the supplemental membership agreements are countersigned by the president of PJM rather than the date specified by the Commission. A new schedule 12 also is added to the operating agreement listing all current of PJM members.

Pursuant to section 35.15 of the Commission's regulations, 18 CFR 35.15, and sections 4.1(C) and 18.18.2 of the operating agreement, PJM also submits for filing notice that several entities have withdrawn their memberships in PJM and a notice of cancellations for the additional member agreements that have FERC rate schedule designations and are being cancelled due to the PJM member withdrawals.

Copies of this filing were served upon all PJM members and each state electric utility regulatory commission in the PJM region.

Comment Date: December 27, 2002.

10. Midwest Energy, Inc.

[Docket No. ES03-15-000]

Take notice that on December 3, 2002, Midwest Energy, Inc. submitted an application pursuant to section 204 of the Federal Power Act seeking authorization to incur up to and including $37,714,286 of debt and requesting an exemption from the Commission's competitive bidding requirements in order to purchase certain regulated electric transmission and distribution systems from Westar Energy, Inc.

Comment Date: January 2, 2003.

11. ISO New England Inc.

[Docket No. OA97-237-000]

Take notice that on December 5, 2002, ISO New England Inc. tendered for filing with the Federal Energy Regulatory Commission (Commission) its “Quarterly Report for Regulators,” as required by New England Power Pool Market rules and procedures 17, for the fourth quarter.

Comment Date: December 26, 2002

Standard Paragraph

Any person desiring to be hear or to protest said filing should file a motion to intervene or protest with the Federal Energy Regulatory Commission, 888 First Street, NE., Washington, DC 20426, in accordance with rules 211 and 214 of the Commission's rules of practice and procedure (18 CFR 385.211 and 18 CFR 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, please contact FERC Online Support at FERCOnlineSupport@ferc.gov or toll-free at (866)208-3676, or for TTY, contact (202)502-8659. Protests and interventions may be filed electronically via the Internet in lieu of paper; see 18 CFR 385.2001(a)(1)(iii) and the instructions on the Commission's Web site under the “e-Filing” link. The Commission strongly encourages electronic filings.

Linwood A. Watson, Jr.,
Deputy Secretary.

[FR Doc. 02-31636 Filed 12-16-02; 8:45 am]

BILLING CODE 6717-01-P